NUCLEAR REGULATORY COMMISSION

Regulatory Guide: Issuance, Availability

AGENCY: Nuclear Regulatory Commission.

ACTION: Regulatory Guide: Issuance, Availability.

FOR FURTHER INFORMATION CONTACT: John N. Ridgely, U.S. Nuclear Regulatory Commission, Washington, DC 20555-0001, telephone (301) 415-6555 or e-mail to JNR@nrc.gov.

SUPPLEMENTARY INFORMATION: The U.S. Nuclear Regulatory Commission (NRC) has issued for public comment a draft guide in the agency's Regulatory Guide series. This series has been developed to describe and make available to the public such information as methods that are acceptable to the NRC staff for implementing specific parts of the NRC's regulations, techniques that the staff uses in evaluating specific problems or postulated accidents, and data that the staff needs in its review of applications for permits and licenses.

The interim revised Regulatory Guide (RG) 4.15, entitled “Quality Assurance for Radiological Monitoring Programs (Inception Through Normal Operations to License Termination)—Effluent Streams and the Environment,” was issued with a temporary identification as Draft Regulatory Guide DG-4010 for public comments on November 2, 2006. Public comments were received, and the NRC staff appropriately revised the Draft Regulatory Guide DG-4010. RG 4.15, Revision 2, was issued in the Federal Register, 72 FR 15173 on March 30, 2007, for interim use and for public comments to a wider audience. The second public comment period closed on May 29, 2007, and no comments have been received. RG 4.15, Revision 2, is no longer considered “for trial use” but is considered “for final use” without change to the information in the guide.

Electronic copies of Regulatory Guide 4.15 are available through the NRC's public Web site under Regulatory Guides in the Regulatory Guides document collection of the NRC's Electronic Reading Room at http://www.nrc.gov/reading-rm/doc-collections/.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4209, by fax at (301) 415-3548, and by e-mail to PDR@nrc.gov.

Regulatory guides are not copyrighted, and NRC approval is not required to reproduce them. (5 U.S.C. 552(a))

Dated at Rockville, Maryland, this 25th day of July, 2007.
For the U.S. Nuclear Regulatory Commission.
Brian W. Sheron,
Director, Office of Nuclear Regulatory Research.

[FR Doc. E7-14863 Filed 7-31-07; 8:45 am]

BILLING CODE 7590-01-P